DEPARTMENT OF HEALTH AND HUMAN SERVICES

Substance Abuse and Mental Health Services Administration

Advisory Committee for Women's Services; Notice of Meeting

Pursuant to Public Law 92-463, notice is hereby given of a meeting of the Substance Abuse and Mental Health Services Administration's (SAMHSA) Advisory Committee for Women's Services (ACWS) on May 26-27 at SAMHSA.

The meeting is open to the public. It will include reports from the SAMHSA Administrator and the ACWS Chair, Updates from ACWS members, and a discussion of SAMHSA's strategic initiatives.

Attendance by the public will be limited to space available. Public comments are welcome. The meeting can also be accessed via Webstream. To obtain the access information, to register, to submit written or brief oral comments, or to request special accommodations for persons with disabilities, please register at the SAMHSA Committee's Web site at https://nac.samhsa.gov/Registration/meetingsRegistration.aspx or communicate with the Designated Federal Officer for the ACWS, Ms. Nevine Gahed (see contact information below). Substantive meeting information and a roster of Committee members may be obtained either by accessing the SAMHSA Committee's Web site at https://nac.samhsa.gov/WomenServices/index.aspx, or by contacting Ms. Gahed. The transcript for the meeting will be available on the SAMHSA Committee's Web site within three weeks after the meeting.

Committee Name: SAMHSA's Advisory Committee for Women's Services.

Date/Time/Type: Wednesday, May 26, 2010 from 9 a.m. to 5 p.m. EST: OPEN. Thursday, May 27, 2010 from 9 a.m. to 12 noon EST: OPEN.

Place: 1 Choke Cherry Road, Seneca Conference Room, Rockville, Maryland 20857.

Contact: Nevine Gahed, Designated Federal Officer, SAMHSA Advisory Committee for Women's Services, 1 Choke Cherry Road, Room 8-1112, Rockville, Maryland 20857, Telephone: (240) 276-2331; Fax: (240) 276-2220 and E-mail: nevine.gahed@samhsa.hhs.gov.

Toian Vaughn,
Committee Management Officer, Substance Abuse and Mental Health Services Administration.

[FR Doc. 2010-10778 Filed 5-6-10; 8:45 am]

BILLING CODE 4162-20-P